NUCLEAR REGULATORY COMMISSION

[Docket No. 50-395; NRC-2023-0152]

Dominion Energy South Carolina, Inc.; Virgil C. Summer Nuclear Station, Unit 1; Subsequent License Renewal and Record of Decision

AGENCY: Nuclear Regulatory Commission.

ACTION: Notice; issuance.

SUMMARY: The U.S. Nuclear Regulatory Commission (NRC) has issued Subsequent Renewed Facility Operating License No. NPF-12 to Dominion Energy South Carolina, Inc. (DESC, or the licensee), for Virgil C. Summer Nuclear Station, Unit 1 (V.C.Summer). In addition, the NRC has prepared a record of decision (ROD) that supports the NRC's decision to issue Subsequent Renewed Facility Operating License No. NPF-12.

DATES: The Subsequent Renewed Facility Operating License No. NPF-12 was issued on June 30, 2025.

ADDRESSES: Please refer to Docket ID NRC-2023-0152 when contacting the NRC about the availability of information regarding this document. You may obtain publicly available information related to this document using any of the following methods:

• Federal Rulemaking Website: Go to https://www.regulations.gov and search for Docket ID NRC-2023-0152. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Marieliz Johnson, Office of Nuclear Reactor Regulation, U.S. Nuclear Regulatory Commission, Washington, DC 20555-0001; telephone: 301-415-5861; email: Marieliz.Johnson@nrc.gov.

SUPPLEMENTARY INFORMATION:

I. Discussion

Notice is hereby given that the NRC has issued Subsequent Renewed Facility Operating License No. NPF-12 to DESC for V.C. Summer. Dominion Energy South Carolina, Inc. is the operator of the facility. Subsequent Renewed Facility Operating License No. NPF-12 authorizes operation of V.C. Summer by DESC at reactor core power levels not to exceed 2,900 megawatts thermal (MWt), in accordance with the provisions of the V.C. Summer subsequent renewed license and technical specifications. Notice is also given that the ROD that supports the NRC's decision to issue Subsequent Renewed Facility Operating License No. NPF-12 is available, and its location is listed in the “Availability of Documents” section of this document.

As discussed in the ROD and the final supplemental environmental impact statement (SEIS), published as NUREG-1437, Supplement 15, Second Renewal, “Generic Environmental Impact Statement for License Renewal of Nuclear Plants: Regarding Subsequent License Renewal for Virgil C. Summer Nuclear Station, Unit 1, Final Report,” published May 2025, the final SEIS documents the NRC staff's environmental review, including the determination that the adverse environmental impacts of subsequent license renewal (SLR) for V.C. Summer are not so great that preserving the option of SLR for energy planning decisionmakers would be unreasonable. The final SEIS conclusion is based on (1) information provided in the environmental report submitted by DESC, as supplemented; (2) the NRC staff's consultations with Federal, State, local, and Tribal agencies; (3) the NRC staff's independent environmental review; and (4) the NRC staff's consideration of public comments received during the scoping process and on the 2024 draft SEIS.

V.C. Summer is a pressurized water reactor located near Jenkinsville, South Carolina. DESC submitted its application for the subsequent renewed license, “Virgil C. Summer Nuclear Station, Unit 1, Subsequent License Renewal Application,” on August 17, 2023, as supplemented by letters through October 24, 2024 (see “Availability of Documents” section of this document). The NRC staff has determined that DESC's application complies with the standards and requirements of the Atomic Energy Act of 1954, as amended (the Act), and NRC's regulations. As required by the Act and NRC regulations in title 10 of the Code of Federal Regulations (10 CFR), the NRC has made the appropriate findings, which are set forth in the subsequent renewed license.

A public notice of the NRC's acceptance for docketing of the subsequent renewed license application and an opportunity for a hearing was published in the Federal Register on October 16, 2023 (88 FR 71384). Further, a notice of intent to prepare a site-specific environmental impact statement and conduct environmental scoping was published on November 3, 2023 (88 FR 75627). On August 6, 2024, the NRC updated the Commission's 2013 findings on the environmental effects of subsequent renewal of the operating license of a nuclear power plant via rulemaking. This final rule redefines the number and scope of the environmental issues that must be addressed during the review of each application for license renewal (LR) and specifically considers the environmental effects of SLR. As part of this update, the NRC issued Revision 2 to the LR Generic Environmental Impact Statement (GEIS) to account for new information and to address the impacts of initial LR as well as one 20-year period of SLR. The final rule became effective for NRC staff on September5,2024. Thereafter, on October 1, 2024, the NRC staff noticed its intent to prepare a plant-specific supplement to the LR GEIS for the V.C. Summer SLR application (89 FR 79975). In November 2024, the NRC staff issued a draft SEIS for public comment, providing the preliminary results of the staff's environmental evaluation of the V.C. Summer subsequent license renewal application (SLRA). A notice of availability of the draft SEIS was published in the Federal Register on December 6, 2024 (89 FR 97077). In January 2025, the NRC staff issued its Safety Evaluation (SE) regarding the V.C. Summer SLRA, and in March 2025, the NRC staff issued Revision 1 of the SE. In May 2025, the NRC staff issued a final SEIS, providing its final evaluation of the environmental impacts of V.C. Summer SLR; a notice of issuance was published in the Federal Register on May 16, 2025 (90 FR 21082).

For further details with respect to this action, see (1) DESC's subsequent license renewal application for V.C. Summer, dated August 17, 2023, as supplemented by letters dated through October 24, 2024; (2) the NRC's safety evaluation, dated January 21, 2025 and Revision 1, dated March 4, 2025; (3) the NRC's final SEIS (NUREG-1437, Supplement 15, Second Renewal) for V.C. Summer SLR dated May 2025; and (4) the NRC's ROD, issued in June 2025.

II. Availability of Documents

The documents identified in the following table are available to interested persons through ADAMS, as indicated.

Document Description | Adams Accession No.
Record of Decision—Subsequent License Renewal Application Review—Virgil C. Summer Nuclear Station, Unit 1, dated June 30, 2025. | ML25120A069.
Final Safety Evaluation to the SLRA of Virgil C. Summer Nuclear Station, Unit 1, dated January 21, 2025. | ML25014A307 (Package).
Final Safety Evaluation to the SLRA of Virgil C. Summer Nuclear Station, Unit 1, Revision 1, dated March 4, 2025. | ML25062A234.
NUREG-1437, Generic Environmental Impact Statement for License Renewal of Nuclear Plants, Supplement 15, Second Renewal, Regarding Subsequent License Renewal of Virgil C. Summer Nuclear Station, Unit 1, Final Report, published May 2025. | ML25128A160.
Virgil C. Summer Nuclear Station, Unit 1, Application for Subsequent Renewed Operating License, dated August 17, 2023. | ML23233A179 (Package).
Virgil C. Summer Nuclear Station, Unit 1, Update to Subsequent License Renewal Application (SLRA)—Supplement 1, dated April 1, 2024. | ML24095A207.
Virgil C. Summer Nuclear Station, Unit 1, Update to Subsequent License Renewal Application, Supplement 2, dated May 6, 2024. | ML24129A200.
NUREG-1437, Generic Environmental Impact Statement for License Renewal of Nuclear Plants, Supplement 15, Second Renewal, Regarding Subsequent License Renewal of Virgil C. Summer Nuclear Station, Unit 1, Draft Report for Comment, published November 2024. | ML24330A271.
Virgil C. Summer Nuclear Station, Unit 1, Update to Subsequent License Renewal Application (SLRA)—Response to NRC Request for Additional Information Set 1, Response to NRC Request for Confirmation of Information, Set 1 and Supplement 3, dated May 30, 2024. | ML24155A146.
Virgil C. Summer Nuclear Station, Unit 1, Update to Subsequent License Renewal Application (SLRA)—Response to NRC Request for Additional Information, Set 2 Safety Review, dated June 17, 2024. | ML24171A015.
Virgil C. Summer Nuclear Station, Unit 1, Subsequent License Renewal Application (SLRA)—First 10 CFR 54.21(b) Annual Amendment, dated September 26, 2024. | ML24274A194.
NUREG-1437, Revision 2, Volumes 1, 2, and 3, Generic Environmental Impact Statement for License Renewal of Nuclear Plants, published August 2024. | ML24087A133 (Package).
Virgil C. Summer Nuclear Station, Unit 1, Update to Subsequent License Renewal Application (SLRA)—Supplement 4 and Requested Information Formation in Response to Limited Aging Management Audit, dated October 24, 2024. | ML24302A144.

Dated: June 30, 2025.
For the Nuclear Regulatory Commission.
Samuel Lee,
Deputy Director, Division of New and Renewed Licenses, Office of Nuclear Reactor Regulation.

[FR Doc. 2025-12351 Filed 7-1-25; 8:45 am]

BILLING CODE 7590-01-P